DEPARTMENT OF TRANSPORTATION

Federal Transit Administration

FTA Supplemental Fiscal Year (FY) 2015 Apportionments, Allocations, and Program Information

AGENCY: Federal Transit Administration (FTA), DOT.

ACTION: Notice.

SUMMARY: The Federal Transit Administration (FTA) annually publishes one or more notices to apportion funds appropriated by law. If less than a full year of funds is available, FTA may publish multiple partial apportionment notices. This notice is the second notice announcing a partial apportionment for programs funded with Fiscal Year (FY) 2015 contract authority.

FOR FURTHER INFORMATION CONTACT: For general information about this notice contact Kimberly Sledge, Acting Director, Office of Transit Programs, at (202) 366-2053. Please contact the appropriate FTA regional office for any specific requests for information or technical assistance. A list of FTA regional offices and contact information is available on the FTA Web site at http://www.fta.dot.gov.

SUPPLEMENTARY INFORMATION:

I. Overview

FTA's public transportation assistance program authorization, the Moving Ahead for Progress in the 21st Century Act (MAP-21), expired September 30, 2014. Since that time, Congress has enacted short-term extensions allowing FTA to continue its current programs. The most recent extension, the Highway and Transportation Funding Act of 2015, Public Law 114-21, (May 29, 2015) continues FTA's transit assistance programs through July 31, 2015.

More specifically, it extends contract authority for the Formula and Bus Grants programs at approximately 83 percent of the FY 2015 levels until July 31, 2015.

FTA's full-year appropriations, the Consolidated and Further Continuing Appropriations Act, 2015, Public Law 113-235 (Dec. 16, 2014), hereinafter “Appropriations Act, 2015” was enacted in December, 2014, giving FTA appropriated resources for all of FY 2015 for Administrative Expenses, Capital Investment Grants, Research programs, and grants to the Washington Metropolitan Area Transportation Authority. The Appropriations Act, 2015 also provides a full fiscal year obligation limitation on contract authority made available to FTA programs funded from the Mass Transit Account of the Highway Trust Fund during this fiscal year.

On February 9, 2015, FTA published an apportionments notice that apportioned approximately 8/12ths of the FY 2015 authorized contract authority among potential program recipients based on contract authority that was available from October 1, 2015 through May 31, 2015 (80 FR 7254). That notice also provided relevant information about the FY 2015 funding available, program requirements, period of availability, prior year unobligated balances, and other related program information and highlights. A copy of that notice and accompanying tables can be found on the FTA Web site at http://www.fta.dot.gov/apportionments.

This document provides notice to stakeholders that FTA is apportioning the available FY 2015 authorized contract authority—October 1, 2014 through July 31, 2015—among potential program recipients according to statutory formulas in 49 U.S.C. Chapter 53. This document also allocates the remainder of Capital Investment Grant funding to projects. FTA has posted tables displaying the funds available to eligible states and urbanized areas on FTA's Web site at http://www.fta.dot.gov/apportionments. FTA will issue a supplemental notice at a later date when additional contract authority becomes available.

The formula apportionment tables that allocate approximately 83 percent of FY 2015 appropriated funds can be found at http://www.fta.dot.gov/apportionments. In addition, the National Transit Database (NTD) and Census Data used in the funding formulas can be found at http://www.fta.dot.gov/apportionments. FTA's tables include the following revisions to incorporate updated NTD data or to correct for errors incurred in the tables published on February 9, 2015:

A. The Small Transit Intensive Cities (STIC) calculations include updated NTD data that includes an additional STIC factor for the Flagstaff Urbanized Area.

B. The Tribal Transit Formula calculations include updated NTD data that has a revised vehicle revenue miles amount for the Southern Ute tribe.

C. The Section 5307 Urbanized Area Formula calculations have been updated to correct for STIC funding allocated to urbanized areas spanning multiple states where STIC funds were incorrectly attributed to the respective states.

D. The Section 5337 State of Good Repair High Intensity Fixed Guideway Tier calculations have been updated to correct for an error in the NTD data used in the February 9 table. That table used data on Directional Route Miles (DRM) that was used in the FY 2014 apportionment calculations. NTD data is updated annually and the supplemental apportionment table uses the DRM associated with the FY 2015 apportionments.

Stakeholders with questions or those who are seeking additional information on these corrections can contact David Schneider with FTA's Division of Grants Management at 202-493-0175.

II. Grant Management and Application Procedures

A. The Transportation Electronic Awards Management (TEAM) system will close on Friday, September 25, 2015. Grants and cooperative agreements must have all applicable assurances and certifications completed so that funds can be awarded by the deadline. Funding that has not been awarded in an application by September 25, 2015 will not be migrated into the new FTA financial system, TrAMS. Instead, these applications will need to be re-created when TrAMS deploys in FY 2016. This applies to new applications as well as amendments to existing awards.

B. In an effort to streamline grant processing, assuming the full year 2015 budget level will become available, grantees may now create an application using an estimated full FY 2015 amount with the appropriate scopes and activity line items when developing project budgets. The project budget should reflect the precise activities for which the grant funds will be used. FTA will then send grants to the Department of Labor (DOL) for certification of the use of the estimated full year funds. FTA will then make a grant based on the funding currently available. Subsequently, when additional funding becomes available, grantees can amend grants and FTA will send the amended grants to DOL for information only, since the grantee previously will have received a certification. For additional grant application procedures please see section V.F. of the FY 2015 Apportionments notice published in the Federal Register at http://www.fta.dot.gov/apportionments.

C. Recipients of open American Recovery and Reinvestment Act (ARRA) grants should be aware that, as a matter of law, all remaining ARRA funds MUST be disbursed from grants by the end of the 5th fiscal year (FY) after funds were required to be obligated. (SEE 31 U.S.C. 1552.) For FTA ARRA projects, that requirement takes affect at the end of FY 2015. Accordingly, once FTA's ECHO grant payment system closes for disbursements on September 25, 2015, all remaining funds within FTA ARRA funded grants will no longer be available to the grantee and will be deobligated from the grant and returned to the U.S. Treasury. Even if a grantee has incurred costs or disbursed funds prior to the close of ECHO, if the grantee has not actually drawn down the funds by 2:00 p.m. EDT on September 25, 2015 FTA would be unable to reimburse the grantee. Therefore, grantees with open ARRA grants must ensure project activities are completed and all funds are drawdown before by 2:00 p.m. EDT on September 25, 2015. For ARRA TIGER 1 projects, the same requirement will be in effect for the end of FY 2016.

Therese McMillan,
Acting Administrator.

[FR Doc. 2015-18062 Filed 7-22-15; 8:45 am]

BILLING CODE P